DEPARTMENT OF COMMERCE

National Oceanic and Atmospheric Administration

RIN 0648-XA885

Notice of Availability of a Draft Environmental Impact Statement for Effects of Oil and Gas Activities in the Arctic Ocean

AGENCY: National Marine Fisheries Service (NMFS), National Oceanic and Atmospheric Administration (NOAA), Commerce.

ACTION: Notice of availability of a Draft Environmental Impact Statement; request for comments.

SUMMARY: NMFS announces the availability of the “Draft Environmental Impact Statement (DEIS) for the Effects of Oil and Gas Activities in the Arctic Ocean.” Publication of this notice begins the official public comment period for this DEIS. The purpose of the DEIS is to evaluate, in compliance with the National Environmental Policy Act (NEPA), the potential direct, indirect, and cumulative impacts of implementing the alternative approaches for authorizing the take of marine mammals incidental to oil and gas exploration activities in the Arctic Ocean pursuant to the Marine Mammal Protection Act (MMPA). The U.S. Department of the Interior's Bureau of Ocean Energy Management (BOEM) is a cooperating agency on this DEIS, and as such, this DEIS also evaluates the potential direct, indirect, and cumulative impacts of implementing the alternative approaches for authorizing geological and geophysical (G&G) surveys and ancillary activities under the Outer Continental Shelf Lands Act (OCSLA) in the Arctic Ocean. The North Slope Borough (NSB) is also a cooperating agency on this DEIS.

DATES: All comments and written statements must be received no later than Monday, February 13, 2012.

ADDRESSES: Written comments and statements on the DEIS must be postmarked by February 13, 2012. Comments on the DEIS may be submitted by:

• Email: arcticeis.comments@noaa.gov.

• Mail: Office of Protected Resources, 1315 East-West Highway, Silver Spring, MD 20910.

• Fax: (301) 713-0376.

• Public Hearings: Oral and written comments will be accepted during the upcoming public hearings. See SUPPLEMENTARY INFORMATION, Public Hearings (below) for more information.

Comments sent via email, including all attachments, must not exceed a 25-megabyte file size. Information on this project can also be found on the Protected Resources Web page at: http://www.nmfs.noaa.gov/pr/permits/eis/arctic.htm.

FOR FURTHER INFORMATION CONTACT: Candace Nachman, Jolie Harrison, or Michael Payne, Office of Protected Resources, NMFS, at (301) 427-8401 or via email at arcticeis.comments@noaa.gov.

SUPPLEMENTARY INFORMATION:

Background

Sections 101 (a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment, a notice of proposed authorization is provided to the public for review. The term “take” under the MMPA means “to harass, hunt, capture, kill or collect, or attempt to harass, hunt, capture, kill or collect.” Except with respect to certain activities not pertinent here, the MMPA defines “harassment” as “any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].”

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

NMFS, as the lead federal agency, prepared this DEIS to evaluate a broad range of reasonably foreseeable levels of exploration activities and associated mitigation measures that may occur within the five-year period from the date of completion of the Final EIS and Record of Decision. BOEM and the NSB are serving as formal cooperating agencies; the Environmental Protection Agency (EPA) is serving as a consulting agency; and NMFS is coordinating with the Alaska Eskimo Whaling Commission (AEWC) pursuant to our co-management agreement under the MMPA.

NMFS has published this EIS to disclose the potential impacts associated with their issuance of ITAs for seismic surveys, ancillary activities, and exploratory drilling under section 101(a)(5) of the MMPA and BOEM's authorization of G&G permits and ancillary activities under the OCSLA.

Scoping

On February 8, 2010, NMFS provided public notice (75 FR 6175) that it would prepare an EIS to analyze the environmental impacts of issuing ITAs pursuant to the MMPA to the oil and gas industry for the taking of marine mammals incidental to offshore exploration activities (e.g., seismic surveys and exploratory drilling) in Federal and state waters of the U.S. Chukchi and Beaufort Seas off Alaska. The 60-day public scoping period ended on April 9, 2010.

Scoping was the first step in this NEPA process (as required under 40 CFR 1501.7). Scoping provided an opportunity for the public and agencies to express their views and identify issues to be addressed in the DEIS.

As part of scoping, NMFS hosted public meetings to introduce the proposed action, describe the EIS process, and solicit input on the issues and alternatives to be evaluated. Public scoping meetings were held in February and March 2010 in the communities of Kotzebue, Point Hope, Point Lay, Wainwright, Barrow, Nuiqsut, and Kaktovik and in Anchorage, Alaska. During the scoping comment period, 73 public comments were received. A report summarizing these comments is available on the project Web site at: http://www.nmfs.noaa.gov/pr/permits/eis/arctic.htm.

Issues identified by the public during the scoping process include, but are not limited to, concerns regarding potential impacts to marine mammals and habitat, subsistence uses of marine mammals, and other wildlife, as well as concerns regarding the potential for an oil spill. Some commenters also expressed concerns about meeting national energy demands. Substantive comments received during the public scoping period have been addressed in the DEIS.

Alternatives

NMFS has evaluated five alternatives in the DEIS. NMFS has not identified a preferred alternative in the DEIS. In this DEIS, NMFS and BOEM present and assess a reasonable range of G&G, ancillary, and exploratory drilling activities expected to occur, as well as a reasonable range of mitigation measures, in order to accurately assess the potential consequences of issuing ITAs under the MMPA and permits under the OCSLA. The potential level of activity described by each alternative is based on recent Federal and state lease planning and recent industry plans for both seismic surveys and exploratory drilling programs in the Beaufort and Chukchi Seas. Each alternative also includes an analysis of a suite of standard and additional mitigation measures that have been identified to help reduce impacts to marine mammals and to ensure no unmitigable adverse impact on the availability of marine mammals for subsistence uses. The suite of measures are considered and analyzed in all four of the action alternatives. The alternatives are summarized as follows:

Alternative 1: No Action Alternative: Under the No Action Alternative, NMFS would not issue any ITAs under the MMPA for seismic surveys or exploratory drilling in the Beaufort and Chukchi Seas, and BOEM would not issue G&G permits or authorize ancillary activities in the Beaufort and Chukchi Seas.

Alternative 2: Authorization for Level 1 Exploration Activity: Alternative 2 analyzes a certain amount of 2D/3D seismic, site clearance and high resolution shallow hazards, and on-ice seismic surveys and exploratory drilling programs to occur each year. Alternative 2 also evaluates a range of standard and additional mitigation measures that would be considered and incorporated into any issued authorization (on a case-by-case basis). Examples of standard and additional mitigation measures include measures to: reduce acoustic exposures (e.g., exclusion zones, flight altitude restrictions, time/area closures); reduce non-acoustic exposures (e.g., vessel speed restrictions, oil spill prevention plans, limited or zero discharge requirements); and ensure no unmitigable adverse impact to subsistence uses (e.g., time/area closures, communication centers).

Alternative 3: Authorization for Level 2 Exploration Activity: Alternative 3 analyzes a level of 2D/3D seismic, site clearance and high resolution shallow hazards, and on-ice seismic surveys and exploratory drilling programs to occur each year that is higher than the level contemplated under Alternative 2. The same suite of standard and additional mitigation measures that would be considered and incorporated into any issued authorization (on a case-by-case basis) under Alternative 2 is considered under Alternative 3.

Alternative 4: Authorization for Level 2 Exploration Activity with Additional Required Time/Area Closures: Alternative 4 considers the same level of activity contemplated under Alternative 3 and also evaluates the same suite of standard and additional mitigation measures. However, certain time/area closures that would be considered on a case-by-case basis under the other alternatives would be required under Alternative 4. The time/area closures would be for specific areas important to biological productivity, life history functions for specific species of concern, and subsistence activities. Activities would not be permitted to occur in any of the time/area closures during the specific identified periods. Additionally, buffer zones around these time/area closures could potentially be included.

Alternative 5: Authorization for Level 2 Exploration Activity with Use of Alternative Technologies: Alternative 5 considers the same level of activity contemplated under Alternative 3 and also evaluates the same suite of standard and additional mitigation measures. However, Alternative 5 also includes specific additional mitigation measures that focus on the use of alternative technologies that have the potential to augment or replace traditional airgun-based seismic exploration activities in the future.

Public Involvement

Comments will be accepted at public hearings and during the public comment period, and must be submitted to NMFS by February 13, 2011 (see FOR FURTHER INFORMATION CONTACT). We request that you include in your comments: (1) Your name, address, and affiliation (if any); and (2) background documents to support your comments as appropriate.

Public scoping meetings will be held in late January and early February 2012, in the communities of Barrow, Kaktovik, Kivalina, Kotzebue, Nuiqsut, Point Hope, Point Lay, and Wainwright. However, the final dates and times have not yet been set. A supplement to this Notice of Availability will be published with the final meeting dates, times, and locations. Comments will be accepted at all public meetings, as well as during the public comment period and can be submitted via the methods described earlier in this document (see ADDRESSES).

Dated: December 20, 2011.
James H. Lecky,
Director, Office of Protected Resources, National Marine Fisheries Service.

[FR Doc. 2011-33195 Filed 12-29-11; 8:45 am]

BILLING CODE 3510-22-P